DEPARTMENT OF HEALTH AND HUMAN SERVICES

Announcement of Solicitation of Research Pertinent to the Communication of the 2005 Dietary Guidelines

AGENCY: Department of Health and Human Services, Office of the Secretary, Office of Public Health and Science, Office of Disease Prevention and Health Promotion.

ACTION: Notice.

SUMMARY: The Department of Health and Human Services (HHS) provides notice of the solicitation of communication research reports pertinent to the sixth edition of Nutrition and Your Health: Dietary Guidelines for Americans, expected to be released in early 2005.

Organizations have expressed an interest in sharing their research findings with HHS. This is not a request for research proposals nor will monetary reimbursement be provided for research submitted.

DATES: Research materials must be received by 5 p.m. E.S.T. on August 31, 2004.

ADDRESSES: Research materials may be sent to the E-mail address dietaryguidelines@osophs,dhhs.gov, or mailed to Dietary Guidelines Communications, Department of Health and Human Services, Office of Disease Prevention and Health Promotion, 200 Independence Avenue, SW., Room 738-G, Washington, DC 20201.

FOR FURTHER INFORMATION CONTACT: Christine Dobday, HHS Project Officer for the Dietary Guidelines Communications, or Kathryn McMurry, HHS Dietary Guidelines Co-Executive Secretary by phone at 202-690-7102, or by writing the following address: Department of Health and Human Services, Office of Disease Prevention and Health Promotion, 200 Independence Avenue, SW., Room 738-G, Washington, DC 20201. Additional information is available on the Internet at http://www.health.gov/dietaryguidelines.

SUPPLEMENTARY INFORMATION: The National Nutrition Monitoring and Related Research Act of 1990 (Pub. L. 101-445, Title III) requires the Secretaries of HHS and USDA to publish Nutrition and Your Health: Dietary Guidelines for Americans at least every five years. The sixth edition of the Dietary Guidelines is expected to be jointly released by HHS and USDA in early 2005. HHS is collaborating with USDA on the development of health messages and communication materials to support the 2005 Dietary Guidelines targeted to the public and intermediaries—government agencies and other organizations, health policy professionals, health communicators, nutrition educators, the media and other intermediaries.

Research: By this notice, the Committee is soliciting submission of research (qualitative and quantitative) pertinent to the development of communications supporting the Dietary Guidelines for Americans. The research submitted may be used as guidance in the development of health messages and materials, and their dissemination to various target audiences. HHS may share the research it receives with internal and external entities working on the 2005 Dietary Guidelines Communications. Research for purposes of this notice should pertain to the subject areas relevant to the Dietary Guidelines (e.g., nutrition, physical activity, energy balance, food safety) and may address audience segmentation, trends, messages, content, communication vehicles and/or channels, education programs, interactive tools, etc. For those submitting research reports, please provide a summary report, final report, or topline that includes the research purpose, objectives, target audiences, methodology, date(s) conducted and location(s), intended use, conclusions/recommendations and note if sponsored or underwritten and by whom. Research submitted will be considered in the public domain, meaning it may not be considered proprietary. There is no reimbursement for research provided nor is this a request for research proposals. Furthermore, research provided should not in any way be deemed as Federally endorsed simply because it has been submitted in response to this notice. Submission of research does not guarantee its use. Please indicate whether you would be available for an oral presentation of your research should we contact you and request so.

Dated: May 27, 2004.
Penelope S. Royall,
Deputy Assistant Secretary for Health (Disease Prevention and Health Promotion), Department of Health and Human Services.

[FR Doc. 04-12422 Filed 6-1-04; 8:45 am]

BILLING CODE 4510-32-P